DEPARTMENT OF THE INTERIOR

Bureau of Land Management

[LLNV952000-10-L14200000-BJ0000; 10-08807; TAS: 14X1109]

Filing of Plats of Survey; Nevada

AGENCY: Bureau of Land Management, Interior.

ACTION: Notice.

SUMMARY: The purpose of this notice is to inform the public and interested State and local government officials of the filing of Plats of Survey in Nevada.

DATES: Effective Dates: Filing is effective at 10 a.m. on the dates indicated below.

FOR FURTHER INFORMATION CONTACT: David D. Morlan, Chief, Branch of Geographic Sciences, Bureau of Land Management (BLM), Nevada State Office, 1340 Financial Blvd., P.O. Box 12000, Reno, Nevada 89520, 775-861-6541.

SUPPLEMENTARY INFORMATION:

1. The Plats of Survey of the following described lands were officially filed at the Nevada State Office, Reno, Nevada, on August 6, 2009:

The plat representing the dependent resurvey of portions of the south and east boundaries and a portion of the subdivisional lines of Township 22 South, Range 62 East, Mount Diablo Meridian, Nevada, under Group No. 849, was accepted August 4, 2009.

The plat, in four (4) sheets, representing the dependent resurvey of portions of the west and north boundaries and a portion of the subdivisional lines, and the subdivision of sections 6, 7 and 18, Township 23 South, Range 63 East, Mount Diablo Meridian, Nevada, under Group No. 850, was accepted August 4, 2009.

These surveys were executed to meet certain needs of the Bureau of Land Management.

2. The Plat of Survey of the following described lands was officially filed at the Nevada State Office, Reno, Nevada, on September 30, 2009:

The plat, representing the dependent resurvey of a portion of the Nevada-Utah State Line, from Mile Post 108+7.00 Chains to Witness Mile Post 106 and a portion of the subdivisional lines, and the subdivision of certain sections, Township 22 North, Range 70 East, Mount Diablo Meridian, Nevada, under Group No. 864, was accepted September 30, 2009.

This survey was executed to meet certain administrative needs of the Confederated Tribes of Goshute and the Bureau of Indian Affairs.

3. The Plat of Survey of the following described lands will be officially filed at the Nevada State Office, Reno, Nevada, on the first business day after thirty (30) days from the publication of this notice:

The plat, representing the survey of the west boundary, a portion of the north boundary and a portion of the subdivisional lines of Township 12 North, Range 31, Mount Diablo Meridian, Nevada, under Group No. 865, was accepted October 1, 2009.

This survey was executed to meet certain administrative needs of the Walker River Paiute Tribe and the Bureau of Indian Affairs.

4. Subject to valid existing rights, the provisions of existing withdrawals and classifications, the requirement of applicable laws, and other segregations of record, these lands are open to application, petition and disposal, including application under the mineral leasing laws. All such valid applications received on or before the official filing of the Plats of Survey described in paragraph 3, shall be considered as simultaneously filed at that time. Applications received thereafter shall be considered in order of filing.

5. The above-listed surveys are now the basic record for describing the lands for all authorized purposes. These surveys have been placed in the open files in the BLM Nevada State Office and are available to the public as a matter of information. Copies of the surveys and related field notes may be furnished to the public upon payment of the appropriate fees.

Dated: October 8, 2009.
David D. Morlan,
Chief Cadastral Surveyor, Nevada.

[FR Doc. E9-25295 Filed 10-20-09; 8:45 am]

BILLING CODE 4310-HC-P